DEPARTMENT OF THE INTERIOR

Bureau of Land Management

[UTU 79768]

Public Land Order No. 7668; Withdrawal of National Forest System Lands for the Utah Lake Drainage Basin and Diamond Fork Systems, Bonneville Unit of the Central Utah Project; Utah

AGENCY: Bureau of Land Management, Interior.

ACTION: Public Land Order.

SUMMARY: This order withdraws approximately 6,450 acres of National Forest System lands from location and entry under the United States mining laws, for a term of 20 years, and reserves the lands for the Department of the Interior, Central Utah Project Completion Act Office for use in conjunction with the Utah Lake Drainage Basin and Diamond Fork Systems, Bonneville Unit of the Central Utah Project.

dates: Effective Date: July 27, 2006.

FOR FURTHER INFORMATION CONTACT: Reed Murray, Central Utah Project Completion Act Office, 302 East 1860 South, Provo, Utah 84606-7317, 801-379-1237.

SUPPLEMENTARY INFORMATION: The lands would remain open to all other uses as may by law be authorized on National Forest System lands.

Order

By virtue of the authority vested in the Secretary of the Interior by Section 204 of the Federal Land Policy and Management Act of 1976, 43 U.S.C. 1714 (2000), it is ordered as follows:

1. Subject to valid existing rights, the following described National Forest System lands are hereby withdrawn from location and entry under the United States mining laws 30 U.S.C. Ch. 2 (2000), and reserved for the Department of the Interior, Central Utah Project Completion Act Office, for use in conjunction with the Utah Lake Drainage Basin and Diamond Fork Systems, Bonneville Unit of the Central Utah Project:

Uinta National Forest

Salt Lake Meridian

T. 7 S., R. 3 E.,

Sec. 21, SW¼NE¼SW¼.

T. 9 S., R. 3 E.,

Sec. 1, S½SW¼;

Sec. 2, SW¼NE¼ and NE¼NW¼;

Sec. 12, lots 1 and 2 and the Federal land within the NE¼NW¼.

T. 9 S., R. 4 E.,

Sec. 18, NE¼NE¼.

T. 8 S., R. 5 E.,

Sec. 2, lots 9, 10, 15 and 16, NE¼SE¼, and W½SE¼;

Sec. 11, W½E½;

Sec. 14, W½NE¼ and NW¼SE¼;

Sec. 22, SE¼SE¼;

Sec. 28, E½SE¼ and SW¼SE¼.

T. 9 S., R. 5 E.,

Sec. 25, NE¼NE¼ and S½S½;

Sec. 35, E½;

Sec. 36.

T. 10 S., R. 5 E.,

Sec. 2, lots 1 and 2.

T. 8 S., R. 6 E.,

Sec. 32, E½ and E½W½.

T. 9 S., R. 6 E.,

Sec. 5, lot 4 and SW¼;

Sec. 6, lots 1 and 2, and SE¼;

Sec. 7, E½;

Sec. 8, W½;

Sec. 17, W½;

Sec. 18, E½;

Sec. 19, lots 5 to 8, inclusive, lots 10, 11, and 12, E½, and E½W½;

Sec. 20, NW¼NW¼;

Sec. 30;

Sec. 31, lots 1 to 10, inclusive, and NE¼NW¼.

The areas described aggregate approximately 6,450 acres in Utah County.

2. The withdrawal made by this order does not alter the applicability of those land laws governing the use of the National Forest System lands under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

Dated: July 3, 2006.
R. Thomas Weimer,
Assistant Secretary of the Interior.

[FR Doc. E6-12005 Filed 7-26-06; 8:45 am]

BILLING CODE 4310-RK-P